DEPARTMENT OF THE TREASURY

Internal Revenue Service

26 CFR Part 1

Income Taxes

CFR Correction

In Title 26 of the Code of Federal Regulations, part 1, §§ 1.908 to 1.1000, revised as of April 1, 2015, on page 394, in § 1.955A-3, revise the heading for paragraph (e) to read “Coordination with section 955(b)(3).”

[FR Doc. 2016-07563 Filed 3-31-16; 8:45 am]

BILLING CODE 1505-01-D